NATIONAL FOUNDATION ON THE ARTS AND THE HUMANITIES

National Endowment for the Humanities

Meetings of Humanities Panel

AGENCY: National Endowment for the Humanities; National Foundation on the Arts and the Humanities.

ACTION: Notice of meetings.

SUMMARY: The National Endowment for the Humanities (NEH) will hold thirty meetings, by videoconference, of the Humanities Panel, a federal advisory committee, during April 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: April 1, 2021

This video meeting will discuss applications on the topics of Literature, Communication, and the Arts, for the Collaborative Research grant program, submitted to the Division of Research Programs.

2. Date: April 2, 2021

This video meeting will discuss applications on the topics of Archaeology and Anthropology, for the Collaborative Research grant program, submitted to the Division of Research Programs.

3. Date: April 2, 2021

This video meeting will discuss applications on the topics of European History and Literature, for the Scholarly Editions and Translations grant program, submitted to the Division of Research Programs.

4. Date: April 5, 2021

This video meeting will discuss applications on the topics of Philosophy and Religion, for the Scholarly Editions and Translations grant program, submitted to the Division of Research Programs.

5. Date: April 6, 2021

This video meeting will discuss applications on the topics of Asian and Middle Eastern History and Literature, for the Scholarly Editions and Translations grant program, submitted to the Division of Research Programs.

6. Date: April 6, 2021

This video meeting will discuss applications on the topics of Philosophy, Religion, and Social Sciences, for the Collaborative Research grant program, submitted to the Division of Research Programs.

7. Date: April 6, 2021

This video meeting will discuss applications on the topic of History, for the Media Projects Production grant program, submitted to the Division of Public Programs.

8. Date: April 7, 2021

This video meeting will discuss applications on the topics of Radio and Podcasts, for the Media Projects Production grant program, submitted to the Division of Public Programs.

9. Date: April 7, 2021

This video meeting will discuss applications on the topics of History and Social Sciences, for the Collaborative Research grant program, submitted to the Division of Research Programs.

10. Date: April 8, 2021

This video meeting will discuss applications on the topic of Indigenous Studies, for the Public Humanities Projects: Exhibitions (Implementation) grant program, submitted to the Division of Public Programs.

11. Date: April 8, 2021

This video meeting will discuss applications on the topic of Digital Collections, for the Digital Humanities Advancement Grants program, submitted to the Office of Digital Humanities.

12. Date: April 9, 2021

This video meeting will discuss applications on the topic of History, for the Media Projects Production grant program, submitted to the Division of Public Programs.

13. Date: April 12, 2021

This video meeting will discuss applications on the topic of Cultural History, for the Media Projects Production grant program, submitted to the Division of Public Programs.

14. Date: April 12, 2021

This video meeting will discuss applications on the topics of Pedagogy and Public Humanities, for the Digital Humanities Advancement Grants program, submitted to the Office of Digital Humanities.

15. Date: April 13, 2021

This video meeting will discuss applications on the topics of 19th and 20th Century U.S. History, for the Public Humanities Projects: Exhibitions (Implementation) grant program, submitted to the Division of Public Programs.

16. Date: April 14, 2021

This video meeting will discuss applications on the topics of Spatial Humanities and Data Visualization, for the Digital Humanities Advancement Grants program, submitted to the Office of Digital Humanities.

17. Date: April 15, 2021

This video meeting will discuss applications on the topic of Art History, for the Public Humanities Projects: Exhibitions (Implementation) grant program, submitted to the Division of Public Programs.

18. Date: April 16, 2021

This video meeting will discuss applications for Public Humanities Projects: Humanities Discussions Grants, submitted to the Division of Public Programs.

19. Date: April 16, 2021

This video meeting will discuss applications on the topic of Computational Analysis, for the Digital Humanities Advancement Grants program, submitted to the Office of Digital Humanities.

20. Date: April 19, 2021

This video meeting will discuss applications on the topic of History, for the Media Projects Production grant program, submitted to the Division of Public Programs.

21. Date: April 20, 2021

This video meeting will discuss applications on the topic of Scholarly Communications, for the Digital Humanities Advancement Grants program, submitted to the Office of Digital Humanities.

22. Date: April 20, 2021

This video meeting will discuss applications on the topics of Art and Culture, for the Public Humanities Projects: Exhibitions (Implementation) grant program, submitted to the Division of Public Programs.

23. Date: April 22, 2021

This video meeting will discuss applications for Short Documentaries grant program, submitted to the Division of Public Programs.

24. Date: April 22, 2021

This video meeting will discuss applications on the topics of Virtual Environments and Cultural Heritage, for the Digital Humanities Advancement Grants program, submitted to the Office of Digital Humanities.

25. Date: April 23, 2021

This video meeting will discuss applications for Institutes for Higher Education Faculty, submitted to the Division of Education Programs.

26. Date: April 26, 2021

This video meeting will discuss applications on the topic of World History, for the Public Humanities Projects: Exhibitions (Implementation) grant program, submitted to the Division of Public Programs.

27. Date: April 27, 2021

This video meeting will discuss applications on the topic of Cultural History, for the Media Projects Production grant program, submitted to the Division of Public Programs.

28. Date: April 28, 2021

This video meeting will discuss applications on the topic of History, for the Media Projects Production grant program, submitted to the Division of Public Programs.

29. Date: April 28, 2021

This video meeting will discuss applications for Institutes for Advanced Topics in the Digital Humanities, submitted to the Office of Digital Humanities.

30. Date: April 29, 2021

This video meeting will discuss applications on the topics of Local and Regional History, for the Public Humanities Projects: Exhibitions (Implementation) grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 9, 2021.
Elizabeth Voyatzis,
Committee Management Officer.

[FR Doc. 2021-05234 Filed 3-12-21; 8:45 am]

BILLING CODE 7536-01-P